DEPARTMENT OF ENERGY

Federal Energy Regulatory Commission

[Docket No. EL19-97-000]

Gladstone New Energy, LLC v. Tri-State Generation and Transmission Association, Inc.; Notice of Complaint

Take notice that on September 11, 2019, pursuant to sections 206 and 306 of the Federal Power Act (FPA), 16 U.S.C. 824e, 825e, and Rules 206 and 212 of the Federal Energy Regulatory Commission's (Commission) Rules of Practice and Procedure, 18 CFR 385.206 and 385.212, Gladstone New Energy, LLC (GNE or Complainant) filed a formal complaint against Tri-State Generation and Transmission Association, Inc. (Tri-State or Respondent) alleging that Tri-State's currently effective generation Interconnection Procedures and Generation Interconnection Agreement do not substantially conform to the pro forma Large Generator Interconnection Procedures and Large Generator Interconnection Agreement, as required for non-jurisdictional utilities seeking reciprocity under Order Nos. 888 and 2003-A, all as more fully explained in the complaint.

GNE certifies that copies of the complaint were served on the contacts for Tri-State as listed in Tri-State's July 23, 2019 Open Access Transmission Tariff FERC Electric Tariff Volume No. 2 filing in Docket No. ER19-2441-000.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on October 1, 2019.

Dated: September 13, 2019.
Kimberly D. Bose,
Secretary.

[FR Doc. 2019-20270 Filed 9-18-19; 8:45 am]

BILLING CODE 6717-01-P